CONSUMER PRODUCT SAFETY COMMISSION

[Docket No. CPSC-2009-0044]

Agency Information Collection Activities; Extension of Collection; Comment Request; Safety Standard for Cigarette Lighters

AGENCY: Consumer Product Safety Commission.

ACTION: Notice of information collection; request for comment.

SUMMARY: As required by the Paperwork Reduction Act of 1995 (PRA), the Consumer Product Safety Commission (CPSC or Commission) requests comments on a proposed extension of approval of information collection requirements associated with the Safety Standard for Cigarette Lighters. The Office of Management and Budget (OMB) previously approved the collection of information under control number 3041-0116. OMB's most recent extension of approval will expire on November 30, 2025. The Commission will consider all comments received in response to this notice before requesting an extension of this collection of information from OMB.

DATES: Submit comments on the collection of information by November 21, 2025.

ADDRESSES: You may submit comments, identified by Docket No. CPSC-2009-0044, within 60 days of publication of this notice by any of the following methods:

Electronic Submissions: Submit electronic comments to the Federal eRulemaking Portal at: https://www.regulations.gov. Follow the instructions for submitting comments. Do not submit through this website: confidential business information, trade secret information, or other sensitive or protected information that you do not want to be available to the public. The Commission typically does not accept comments submitted by email, except as described below.

Mail/hand delivery/courier/written submissions: CPSC encourages you to submit electronic comments by using the Federal eRulemaking Portal. You may, however, submit comments by mail/hand delivery/courier to: Office of the Secretary, U.S. Consumer Product Safety Commission, 4330 East-West Highway, Bethesda, MD 20814; telephone (301) 504-7479.

Instructions: All submissions received must include the agency name and docket number for this notice. CPSC may post all comments without change, including any personal identifiers, contact information, or other personal information provided, to: https://www.regulations.gov. If you wish to submit confidential business information, trade secret information, or other sensitive or protected information that you do not want to be available to the public, you may submit such comments by mail, hand delivery, or courier, or you may email them to cpsc-os@cpsc.gov.

Docket: For access to the docket to read background documents or comments received, go to: https://www.regulations.gov, insert docket number CPSC-2009-0044.

FOR FURTHER INFORMATION CONTACT: Cynthia Gillham, Consumer Product Safety Commission, 4330 East-West Highway, Bethesda, MD 20814; (301) 504-7791, or by email to: pra@cpsc.gov.

SUPPLEMENTARY INFORMATION: CPSC seeks to renew the following currently approved collection of information:

Title: Safety Standard for Cigarette Lighters.

OMB Number: 3041-0116.

Type of Review: Renewal of collection.

Frequency of Response: On occasion.

Affected Public: Manufacturers and importers of cigarette lighters.

General Description of Collection: The Safety Standard for Cigarette Lighters (16 CFR part 1210) addresses the risks of death and burn injury associated with fires accidentally started by children playing with cigarette lighters. The standard requires certain test protocols, as well as recordkeeping and reporting requirements. 16 CFR part 1210, subpart B. In addition, section 14(a) of the Consumer Prodcut Safety Act (CPSA) requires manufacturers, importers, and private labelers of a consumer product subject to a consumer product safety standard to issue a certificate stating that the product complies with all applicable consumer product safety standards. 15 U.S.C. 2063(a). Section 14(a) of the CPSA also requires that the certificate of compliance must be based on a test of each product or upon a reasonable testing program. Id.

Estimated Number of Respondents: Based on averaging available data from fiscal years 2021 (used in last PRA renewal) and 2024, CPSC estimates approximately 30 firms will respond to the collection annually.

Estimated Time per Response: The burden associated with the standard includes the time spent compiling the test records, either by the firm or by outside contractors. If the firm elects to use an outside contractor, no burden is incurred by the respondent. If tests are conducted in-house, the burden associated with compiling a test record for a new model is expected to be about 90 hours per model. There is no burden associated with the comparison lighters.¹ For recordkeeping, the time for a new model is estimated to be 20 hours and for a comparison lighter it is estimated to be 3 hours. For reporting, approximately one hour per product will be required for manufacturers to submit information to CPSC.

¹ Under § 1210.14, if a manufacturer has tested one lighter model, and then wishes to distribute another lighter model that differs from the first model only in features that would not have an adverse effect on child resistance, the second model need not be tested in accordance with § 1210.4.

Total Estimated Annual Burden: CPSC expects four new models to be subject to initial qualification testing annually and approximately 139 lighters comparable to previously tested models, comparison lighters, to be subject to ongoing testing annually.

The burden associated with the standard includes the cost for compiling and maintaining the test records, either by the firm or by outside contractors. As previously mentioned, comparison lighters do not have a burden associated with compiling a test record, including costs. If the firm elects to use an outside contractor, the estimated cost for compiling a test record for a new model is about $25,000 on average.² If all four new lighter models are tested annually by outside contractors, the cost is expected to be about $100,000. The total time to compile a test record for the four models, if conducted in-house, is approximately 360 hours. The total time for recordkeeping of new models is expected to be 80 hours (20 hours × 4 models). For 139 comparison lighters, the estimated burden for recordkeeping is 417 hours (139 models × 3 hours). For reporting, CPSC estimates 143 total hours for reporting (4 new models + 139 comparison lighters). The annual total number of hours is expected to be 1,000 hours (360 testing hours + 497 record keeping hours + 143 reporting hours) per year.

² This estimate is based on an approximate cost of $22,000 of compiling a test record per panel, but for a few models a second test panel will be required.

Total Estimated Annual Cost to Respondents: CPSC estimates that hourly compensation for the time required for compiling a test record is $77.19 per hour (U.S. Bureau of Labor Statistics, “Employer Costs for Employee total compensation for management, professional, and related workers in goods-producing industries: https://www.bls.gov/news.release/archives/ecec_06132025.pdf). The total cost to industry for this regulation is expected to be within the range of $27,788 to $100,000 per year, depending on whether the testing is performed in-house or outsourced.

For the recordkeeping burden, CPSC estimates that the hourly compensation is $41.59 (U.S. Bureau of Labor Statistics, “Employer Costs for Employee Compensation,” March 2025, Table 4, total compensation for all sales and office workers in goods-producing, private industries: https://www.bls.gov/news.release/archives/ecec_06132025.pdf). The estimated annual cost of recordkeeping for new models rounded to the nearest dollar is $3,327.20 (80 hours × $41.59). The estimated annual cost of recordkeeping for comparison lighters rounded to the nearest dollar is $17,343 (417 hours × $41.59). In total, the estimated recordkeeping burden for new lighter models and comparison lighters is 497 hours (80 hours + 417 hours). The estimated total recordkeeping costs for new lighter models and comparison lighters is $20,670 ($3,327 + $17,343).

For the reporting burden, CPSC estimates the hourly compensation for the time required for submitting the form to be $41.59 (U.S. Bureau of Labor Statistics, “Employer Costs for Employee Compensation,” March 2025, Table 4, total compensation for all sales and office workers in goods-producing, private industries: https://www.bls.gov/news.release/archives/ecec_06132025.pdf). Therefore, rounded to the nearest whole dollar, the estimated cost of reporting is $5,947.

CPSC estimates that the total burden cost for firms to prepare, maintain, and submit testing records to the CPSC is within the range of $54,406 to $126,618, depending upon whether the firms choose to conduct testing in-house or through outsourcing.

Request for Comments

The Commission solicits written comments from all interested persons about the proposed collection of information. The Commission specifically solicits information relevant to the following topics:

• whether the collection of information described above is necessary for the proper performance of the Commission's functions, including whether the information would have practical utility;

• whether the estimated burden of the proposed collection of information is accurate;

• whether the quality, utility, and clarity of the information to be collected could be enhanced; and

• whether the burden imposed by the collection of information could be minimized by use of automated, electronic or other technological collection techniques, or other forms of information technology.

Alberta E. Mills,
Secretary, Consumer Product Safety Commission.

[FR Doc. 2025-18302 Filed 9-19-25; 8:45 am]

BILLING CODE 6355-01-P